SMALL BUSINESS ADMINISTRATION

[Declaration of Disaster #3634]

Commonwealth of Puerto Rico

As a result of the President's major disaster declaration for Public Assistance on September 17, 2004, and Amendment 1 adding Individual Assistance on September 21, 2004, I find that Aguada, Aguadilla, Aguas Buenas, Aibonito, Añasco, Arecibo, Arroyo, Barceloneta, Barranquitas, Bayamón, Camuy, Canóvanas, Carolina, Cataño, Cayey, Ceiba, Ciales, Cidra, Coamo, Comerío, Corozal, Dorado, Florida, Guayama, Hatillo, Humacao, Isabela, Juana Díaz, Juncos, Lares, Las Piedras, Loíza, Manatí, Maunabo, Moca, Morovis, Naguabo, Naranjito, Orocovis, Patillas, Quebradillas, Rincón, Río Grande, Salinas, San Lorenzo, San Sebastian, Santa Isabel, Toa Alta, Toa Baja, Utuado, Vega Alta, Vega Baja, Villalba, and Yabucoa Municipalities in the Commonwealth of Puerto Rico constitute a disaster area due to damages caused by Tropical Storm Jeanne and resulting landslides and mudslides occurring on September 14, 2004, and continuing. Applications for loans for physical damage as a result of this disaster may be filed until the close of business on November 22, 2004, and for economic injury until the close of business on June 21, 2005, at the address listed below or other locally announced locations: U.S. Small Business Administration, Disaster Area 1 Office, 360 Rainbow Blvd., South 3rd Fl., Niagara Falls, NY 14303-1192.

In addition, applications for economic injury loans from small businesses located in the following contiguous municipalities may be filed until the specified date at the above location: Adjuntas, Caguas, Fajardo, Guaynabo, Gurabo, Jayuya, Las Marias, Luquillo, Maricao, Mayaguez, Ponce, San Juan, Trujillo Alto, and Yauco.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 363408 and for economic injury the number is 9ZZ900.

(Catalog of Federal Domestic Assistance Program Nos. 59002 and 59008)

Dated: September 22, 2004.
Herbert L. Mitchell,
Associate Administrator for Disaster Assistance.

[FR Doc. 04-21908 Filed 9-29-04; 8:45 am]

BILLING CODE 8025-01-P